DEPARTMENT OF THE TREASURY

Senior Executive Service; Departmental Offices Performance Review Board

AGENCY: Treasury Department.

ACTION: Notice of members of the Departmental Offices Performances Review Board.

SUMMARY: Pursuant to 5 U.S.C. 4314(c)(4), this notice announces the appointment of members of the Departmental Offices Performance Review Board (PRB). The purpose of this Board is to review and make recommendations concerning proposed performance appraisals, ratings, bonuses and other appropriate personnel actions for incumbents of SES positions in the Departmental Offices, excluding the Legal Division. The Board will perform PRB functions for other bureau positions if requested.

Composition of Departmental Offices PRB: The Board shall consist of at least three members. In the case of an appraisal of a career appointee, more than half the members shall consist of career appointees. The names and titles of the Board members are as follows:

Names for Federal Register Publication

• Everett, Jordan, Deputy Assistant Secretary, Intelligence Community Integration

• Ho, Christina, Deputy Assistant Secretary, Accounting Policy and Financial Transparency

• Mackie, James B. II, Director Office of Tax Analysis

• McDonald, Gordon, Senior Advisor and Director, Strategic Management

• Cooper, Iris, Senior Procurement Executive

• Pabotoy, Barbara, Associate Chief Human Capital Officer for Executive & Human Capital Services

• Rasetti, Lorenzo, Chief Financial Officer for Office of Financial Stability (Alternate Member)

DATES: Effective Date: Membership is effective on the date of this notice.

FOR FURTHER INFORMATION CONTACT: Mario R. Minor and Sherri Coleman, Office of Executives and Human Capital Services, 1500 Pennsylvania Avenue NW., ATTN: 1722 Eye Street, 9th Floor, Washington, DC 20220, Telephone: 202-622-0774.

Barbara B. Pabotoy,
Associate Chief Human Capital Officer, Human Capital Services.

[FR Doc. 2015-27486 Filed 10-28-15; 8:45 am]

BILLING CODE 4810-25-P